DEPARTMENT OF COMMERCE

International Trade Administration

A-201-817

Oil Country Tubular Goods from Mexico; Preliminary Results of the Sunset Review of Antidumping Duty Order

AGENCY: Import Administration, International Trade Administration, Department of Commerce.

SUMMARY: On June 1, 2006, the Department of Commerce (“the Department”) initiated a sunset review of the antidumping duty order on oil country tubular goods (“OCTG”) from Mexico. On the basis of the notice of intent to participate, adequate substantive responses, and rebuttal comments filed on behalf of the domestic and respondent interested parties, the Department is conducting a full sunset review of the antidumping duty order pursuant to section 751(c) of the Tariff Act of 1930, as amended (“the Act”), and 19 CFR 351.218(e)(2)(i). As a result of this sunset review, the Department preliminarily finds that revocation of the antidumping duty order would likely lead to the continuation or recurrence of dumping at the levels listed below in the section entitled “Preliminary Results of Review.”

EFFECTIVE DATE: December 26, 2006.

FOR FURTHER INFORMATION CONTACT: John Drury or Angelica Mendoza, AD/CVD Operations, Office 7, Import Administration, International Trade Administration, U.S. Department of Commerce, 14th Street & Constitution Avenue, NW, Washington, DC, 20230; telephone: 202-482-0195 or 202-482-3019, respectively.

SUPPLEMENTARY INFORMATION:

Background

On June 1, 2006, the Department published its notice of initiation of the sunset review of the antidumping duty order on OCTG from Mexico, in accordance with section 751(c) of the Act. See Initiation of Five-Year (“Sunset”) Reviews, 71 FR 31153 (June 1, 2006) (“Notice of Initiation”).

The Department received notices of intent to participate on behalf of United States Steel Corporation and IPSCO Tubulars Inc., Lone Star Steel Company, Koppel Steel (NS Group), Maverick Tube Corporation, Newport Steel (NS Group) and V&M Star LP (collectively “the domestic interested parties”), within the 15-day deadline specified in 19 CFR 351.218(d)(1)(i). The domestic interested parties claimed interested party status under section 771(9)(C) of the Act, as manufacturers of a domestic-like product in the United States.

The Department received complete substantive responses to the notice of initiation from the interested parties Hylsa S.A. de CV (“Hylsa”) and Tubos de Aceros de Mexico, S.A. (“TAMSA”) (collectively “respondent interested parties”) within the 30-day deadline specified in 19 CFR 351.218(d)(3)(i). The Department received rebuttal responses from domestic interested parties to the substantive responses from the respondent interested parties on July 5, 2006, and July 14, 2006, respectively.

19 CFR 351.218(e)(1)(ii)(A) provides that the Secretary normally will conclude that respondent interested parties have provided adequate response to a notice of initiation where the Department receives complete substantive responses from respondent interested parties accounting on average for more than 50 percent, by volume, or value, if appropriate, of the total exports of the subject merchandise to the United States over the five calendar years preceding the year of publication of the notice of initiation. On July 21, 2006, the Department found that respondent interested parties accounted for more than 50 percent of exports by volume of the subject merchandise from Mexico to the United States. See Memorandum to Stephen J. Claeys, Deputy Assistant Secretary for Import Administration, from John K. Drury entitled, “Adequacy Determination: Sunset Review of the Antidumping Duty Order on Oil Country Tubular Goods from Mexico,” (July 21, 2006). In accordance with 19 CFR 351.218(e)(2)(i), the Department determined to conduct a full sunset review of this antidumping duty order. On September 25, 2006, in accordance with section 751(c)(5)(B) of the Act, the Department extended the deadlines for the preliminary and final results of this sunset review by 90 days. See Oil Country Tubular Goods from Mexico; Extension of Time Limits for Preliminary and Final Results of Full Five-year (“Sunset”) Review of Antidumping Duty Order, 71 FR 55774.

The final results of the full sunset review of this antidumping duty order are due on or before April 27, 2007.

Scope of the Order

The merchandise covered by this order is OCTG, hollow steel products of circular cross-section, including oil well casing and tubing of iron (other than cast iron) or steel (both carbon and alloy), whether seamless or welded, whether or not conforming to American Petroleum Institute (“API”) or non-API specifications, whether finished or unfinished (including green tubes and limited-service OCTG products). The scope of this order does not cover casing or tubing pipe containing 10.5 percent or more of chromium, or drill pipe. The OCTG subject to this order are currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The Department has determined that couplings, and coupling stock, are not within the scope of the antidumping order on OCTG from Mexico. See Letter to Interested Parties; Final Affirmative Scope Decision, August 27, 1998. The HTSUS subheadings are provided for convenience and customs purposes. Our written description of the scope of this order is dispositive.

Analysis of Comments Received

All issues raised in this sunset review are addressed in the “Issues and Decision Memorandum for the Full Sunset Review of the Antidumping Duty Order on Oil Country Tubular Goods (“OCTG”) from Mexico; Preliminary Results,” from Stephen J. Claeys, Deputy Assistant Secretary for Import Administration, to David M. Spooner, Assistant Secretary for Import Administration, dated December 18, 2006 (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memorandum, which is on file in room B-099 of the main Department building. In addition, a complete version of the Decision Memo can be accessed directly on the Web at http://ia.ita.doc.gov/frn. The paper copy and electronic version of the Decision Memo are identical in content.

Preliminary Results of Review

The Department preliminarily determines that revocation of the antidumping duty order on OCTG from Mexico is likely to lead to continuation or recurrence of dumping at the following weighted-average margins:

Manufacturers/Producers/Exporters | Weighted-Average Margin (Percent)
TAMSA | 21.70
Hylsa | 0.62
All Others | 21.70

Any interested party may request a hearing within 30 days of publication of this notice in accordance with 19 CFR 351.310(c). Interested parties may submit case briefs no later than 50 days after the date of publication of this notice, in accordance with 19 CFR 351.309(c)(1)(i). Rebuttal briefs, which must be limited to issues raised in the case briefs, may be filed no later than five days after the case briefs, in accordance with 19 CFR 351.309(d)(1). Any hearing, if requested, will be held two days after rebuttal briefs are due, in accordance with 19 CFR 351.310(d)(1). The Department will issue a notice of final results of this sunset review, which will include the results of its analysis of issues raised in any such briefs, no later than April 27, 2007.

This five-year (“sunset”) review and notice are in accordance with sections 751(c), 752(c), and 777(i)(1) of the Act.

Dated: December 18, 2006.
David M. Spooner,
Assistant Secretary for Import Administration.

[FR Doc. E6-22076 Filed 12-22-06; 8:45 am]

BILLING CODE 3510-DS-S